DEPARTMENT OF TRANSPORTATION

Federal Aviation Administration

Eighth Meeting: Joint RTCA Special Committee 213: EUROCAE WG-79: Enhanced Flight Vision Systems/Synthetic Vision Systems (EFVS/SVS)

AGENCY: Federal Aviation Administration (FAA), DOT.

ACTION: Notice of Joint RTCA Special Committee 213: EUROCAE WG-79: Enhanced Flight Vision Systems/Synthetic Vision Systems (EFVS/SVS).

SUMMARY: The FAA is issuing this notice to advise the public of a meeting of Joint RTCA Special Committee 213: EUROCAE WG-79: Enhanced Flight Vision Systems/Synthetic Vision Systems (EFVS/SVS).

DATES: The meeting will be held April 27-29, 2010. Sign-in: 8:30 a.m. (0830) on April 27, 2010. Meeting: 9 a.m.-5 p.m. (0900-1700).

ADDRESSES: The meeting will be held at Dan Tel-Aviv Hotel, Hayarkon 99 St., Tel Aviv, IS 63432. Objective: Primary objective is comment disposition from Final Review and Comment (FRAC) period of draft MASPS for EFVS approach and landing. Secondary objective is plenary review of subsequent MASPS update for SVS.

FOR FURTHER INFORMATION CONTACT: (1) RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Joint RTCA Special Committee 213: EUROCAE WG-79: Enhanced Flight Vision Systems/Synthetic Vision Systems (EFVS/SVS) meeting. The agenda will include:

Tuesday, 27 April

• Sign-in at 8:30 a.m.

• 9 a.m.-5 p.m.—Plenary (including breaks and lunch).

• Welcome, introductions, review agenda, minutes approval, and objectives.

• Plenary work group updates, action item review.

• Plenary review/comment disposition of draft MASPS for EFVS approach and landing.

Wednesday, 28 April

• 9 a.m.-5 p.m.—Plenary (including breaks and lunch).

• Continue: Plenary review/comment disposition of draft MASPS for EFVS.

• Begin: Plenary review of MASPS update for SVS.

Thursday, 29 April

• 9 a.m.-3 p.m.—Plenary (including breaks and lunch).

• Continue: Plenary review of MASPS update for SVS.

• Review administrative items.

• Assign action items.

• Agree on next meeting date and location.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on March 30, 2010.
Meredith Gibbs,
RTCA Advisory Committee.

[FR Doc. 2010-7650 Filed 4-2-10; 8:45 am]

BILLING CODE 4910-13-P